DEPARTMENT OF THE INTERIOR

Bureau of Land Management

[AZ 400-02-1610-DO-089A]

Sonoran Desert National Monument

AGENCY: Bureau of Land Management, Phoenix Field Office, Phoenix, AZ, Interior.

ACTION: Notice of intent to prepare a Resource Management Plan (RMP) and Environmental Impact Statement (EIS) for the Sonoran Desert National Monument, designated January 17, 2001. These lands are located in Maricopa and Pinal Counties, Arizona.

SUMMARY: This document provides notice that the Bureau of Land Management (BLM), Phoenix Field Office intends to prepare a RMP with an associated EIS. This planning activity encompasses approximately 486,603 acres of public land in the Sonoran Desert National Monument. The plan will fulfill the needs and obligations set forth by the National Environmental Policy Act (NEPA), the Federal Land Policy and Management Act (FLPMA), the monument proclamation, and BLM management policies. The BLM will work closely with interested parties to identify the management decisions that are best suited to the needs of the public. This collaborative process will take into account local, regional, and national needs and concerns. The first phase of the planning process is scoping which includes an evaluation of the existing RMP in the context of the needs and interests of the public and protection of the objects of historic and scientific interest specified in the proclamation, the identification of issues that should be addressed in the planning process, and development of planning criteria.

DATES: The scoping comment period will commence with the publication of this notice. Formal scoping will last a minimum of 60 days.

Public Participation: Public meetings will be held throughout the plan scoping and preparation period. In order to ensure local community participation and input, public meeting locations will be rotated among the towns of Gila Bend, Casa Grande, Yuma, Phoenix, and Tucson, Arizona. Early participation by all those interested is encouraged and will help determine the future management of the Sonoran Desert National Monument. At least 15 days public notice will be given for activities where the public is invited to attend. Written comments will be accepted throughout the planning process. Meetings and comment deadlines will be announced through the local news media, newsletters, and the BLM web site (www.az.blm.gov). In addition to the ongoing public participation process, formal opportunities for public participation will be provided upon publication of the draft RMP/EIS.

ADDRESSES: Sonoran Desert NM Planning, Bureau of Land Management, Phoenix Field Office, 21605 N. 7th Avenue, Phoenix, AZ 85027; Fax 623-580-5580. For further information and/or to have your name added to our mailing list, contact Mike Brown, Telephone 623-580-5503, or Karen Kelleher, Telephone 623-580-5566.

SUPPLEMENTARY INFORMATION: Preliminary issues and management concerns have been identified by BLM personnel, other agencies, and in meetings with individuals and user groups. They represent the BLM's knowledge to date on the existing issues and concerns with current management. Additional issues and modifications to known issues will be identified during public scoping. The major issues that will be addressed in the plan effort include, but are not limited to management and protection of public land resources, including wildlife management and wilderness; recreation/visitor use and safety; access and transportation on the public lands; location and management of utility corridors; suitability and management of grazing; and integration of monument management with state, local community, tribal, and other agency needs and plans.

After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

An interdisciplinary approach will be used to develop the plan in order to consider the variety of resource issues and concerns identified. Disciplines involved in the planning process will include rangeland management, minerals and geology, outdoor recreation, archaeology, wildlife, wilderness, lands and realty, hydrology, soils, sociology, and economics. Where necessary, outside expertise may be used.

Elaine Marquis-Brong,
Director, National Landscape Conservation System.

[FR Doc. 02-9587 Filed 4-23-02; 8:45 am]

BILLING CODE 4310-32-P